DEPARTMENT OF STATE

[Public Notice: 9093]

Notice of Meeting of the International Telecommunication Advisory Committee and Preparations for Upcoming International Telecommunications Meetings

This notice announces a meeting of the Department of State's International Telecommunication advisory Committee (ITAC) to review the activities of the Department of State in international meetings on international communications and information policy over the last quarter and prepare for similar activities in the next quarter. The ITAC will meet on April 28, 2015 at 2:00 p.m. EST at: 1120 20th Street NW., Conference RM 8-1 on 8th Floor, Washington, DC 20036 to review the preparations for and outcomes of international telecommunications meetings of the International Telecommunication Union (ITU), the Inter-American Telecommunications Commission, Organization for Economic Cooperation and Development, and Asia-Pacific Economic Cooperation Telecommunications, and announce preparations for similar activities. In particular, readout on the outcome of the ITU Conference Preparatory Meeting (CPM) for the 2015 World Radiocommunication Conference (WRC-15) as well as a request for input on future WRC-19 agenda items and possible U.S. nominations for ITU-R Study Group chairs at the Radiocommunication Assembly will be highlighted.

Attendance at this meeting is open to the public as seating capacity allows. The public will have an opportunity to provide comments at this meeting at the invitation of the chair. Further details on this ITAC meeting will be announced on the Department of State's email list, ITAC@lmlist.state.gov. Use of the ITAC list is limited to meeting announcements and confirmations, distribution of agendas and other relevant meeting documents. The Department welcomes any U.S. citizen or legal permanent resident to remain on or join the ITAC listserv by providing his or her name, email address, and the company, organization, or community that he or she is representing, if any. Persons wishing to request reasonable accommodation during the meeting should contact jacksonln@state.gov or gadsdensf@state.gov not later than April 15, 2015. Requests made after that time will be considered, but might not be able to be fulfilled.

FOR FURTHER INFORMATION CONTACT: Please contact Franz Zichy at 202-647-5778, zichyfj@state.gov.

Dated: April 4, 2015.
Julie N. Zoller,
Senior Deputy Coordinator, International Communications and Information Policy, U.S. State Department.

[FR Doc. 2015-08475 Filed 4-10-15; 8:45 am]

BILLING CODE 4710-07-P